DEPARTMENT OF COMMERCE

Foreign-Trade Zones Board

[T-1-2011]

Foreign-Trade Zone Subzone 22— Chicago, IL, Temporary/Interim Manufacturing Authority, Baxter Healthcare Corporation (Pharmaceutical and Biological Product Manufacturing), Notice of Approval

On January 18, 2011, the Executive Secretary of the Foreign-Trade Zones (FTZ) Board filed an application submitted by the Illinois International Port District, grantee of FTZ 22, requesting temporary/interim manufacturing (T/IM) authority, on behalf of Baxter Healthcare Corporation (Baxter) to manufacture pharmaceutical and biological intravenous (I.V.) products under FTZ procedures within FTZ 22—Site 21, in Round Lake, Illinois.

The application was processed in accordance with T/IM procedures, as authorized by FTZ Board Orders 1347 (69 FR 52857, 8/30/04) and 1480 (71 FR 55422, 9/22/06). The Baxter facility and activity in question had initially been proposed to the FTZ Board for subzone authority, including notice in the Federal Register inviting public comment (FTZ Doc. 60-2010, 75 FR 65448, 10/25/2010). To enable expedited authority for Baxter in the context of the FTZ Board's recent approval of the reorganization of FTZ 22 under the alternative site framework (ASF) (Board Order 1738, 1/12/2011, 76 FR 4285, 1/25/2011), FTZ 22 subsequently requested to designate the Baxter facility as a usage-driven site (Site 21, A27f-2-2011, 1/14/2011), and requested T/IM authority for Baxter's manufacturing of I.V. products. The foreign-origin component approved for this activity is laminated film (HTSUS 3920.10). The FTZ staff examiner reviewed the application and determined that it meets the criteria for approval under T/IM procedures. As noted above, public comment had been sought on the specific proposed activity through the Federal Register notice published regarding the proposed subzone authority (FTZ Doc. 60-2010).

Pursuant to the authority delegated to the FTZ Board Executive Secretary in the above-referenced Board Orders, the application for T/IM authority is approved, effective this date, until February 11, 2013, subject to the FTZ Act and the Board's regulations, including Section 400.28.

Dated: February 11, 2011.
Andrew McGilvray,
Executive Secretary.

[FR Doc. 2011-3890 Filed 2-18-11; 8:45 am]

BILLING CODE P